NUCLEAR REGULATORY COMMISSION

Completion of Terminated License Review Project

AGENCY: Nuclear Regulatory Commission.

ACTION: Completion of terminated license review project.

In 1989 the General Accounting Office issued a report which raised concerns about the U.S. Nuclear Regulatory Commission's (NRC's) criteria and procedures used for the decommissioning of formerly licensed sites. As a result, in 1990, the NRC decided to undertake a review of terminated materials licenses to assure that previously licensed facilities were properly decontaminated and posed no threat to public health and safety. Oak Ridge National Laboratory (ORNL) was contracted to review all materials licenses terminated by the NRC or its predecessor agencies, from inception of material regulation, to: (1) Identify sites with potential for meaningful residual contamination, based on information in the license documentation; and (2) to identify sealed sources with incomplete or no accounting that could represent a public hazard.

ORNL examined in excess of 37,000 terminated license files. From its evaluation of these license files, ORNL identified approximately 675 loose material licenses and 565 sealed source licenses that required further review. NRC Regional offices either performed a follow-up review, or transferred responsibility for the follow-up review to the appropriate Agreement State.

As a result of the Regional reviews, 40 sites were found to have residual contamination in excess of the NRC's criteria for unrestricted release. Of these sites, 18 have been closed, 11 have been transferred to Agreement States or the U.S. Department of Air Force, 8 are in the process of decommissioning, and 3 are under further NRC review.

ORNL has developed a web-based database for the NRC to document the evaluation and closure process for all terminated license files. This database will also be used to track the 300-400 licenses terminated each year by NRC. The database will be completed in September 2002.

For further details with respect to this action, see the Final Report on Results of Terminated License Reviews, dated September 26, 2001. This report is available online through NRC's Agencywide Documents Access and Management Systems (Accession No. ML012710539).

Dated at Rockville, Maryland, this 4th day of October 2001.
For the Nuclear Regulatory Commission.
Larry W. Camper,
Chief, Decommissioning Branch, Division of Waste Management, Office of Nuclear Material Safety and Safeguards.

[FR Doc. 01-25671 Filed 10-11-01; 8:45 am]

BILLING CODE 7590-01-P